DEPARTMENT OF AGRICULTURE

Animal and Plant Health Inspection Service

9 CFR Part 93

[Docket No. APHIS-2007-0095]

RIN 0579-AC63

Importation of Cattle From Mexico; Addition of Port at San Luis, AZ

AGENCY: Animal and Plant Health Inspection Service, USDA.

ACTION: Proposed rule.

SUMMARY: We are proposing to amend the regulations regarding the importation of cattle from Mexico by adding San Luis, AZ, as a port through which cattle that have been infested with fever ticks or exposed to fever ticks or tick-borne diseases may be imported into the United States. A new facility for the handling of animals is to be constructed on the Mexican side of the border at the port of San Luis, AZ, that will be equipped with facilities necessary for the proper chute inspection, dipping, and testing that are required for such cattle under the regulations. We would also amend the regulations to remove provisions that limit the admission of cattle that have been infested with fever ticks or exposed to fever ticks or tick-borne diseases to the State of Texas. The statutory requirement that limited the admission of those cattle to the State of Texas has been repealed. These proposed changes would make an additional port of entry available and relieve restrictions on the movement of imported Mexican cattle within the United States.

DATES: We will consider all comments that we receive on or before March 31, 2008.

ADDRESSES: You may submit comments by either of the following methods:

• Federal eRulemaking Portal: Go to http://www.regulations.gov/fdmspublic/component/main?main=DocketDetail&d=APHIS-2007-0095 to submit or view comments and to view supporting and related materials available electronically.

• Postal Mail/Commercial Delivery: Please send two copies of your comment to Docket No. APHIS-2007-0095, Regulatory Analysis and Development, PPD, APHIS, Station 3A-03.8, 4700 River Road Unit 118, Riverdale, MD 20737-1238. Please state that your comment refers to Docket No. APHIS-2007-0095.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Freeda Isaac, Assistant Director for Animal Import, National Center for Import and Export, VS, APHIS, 4700 River Road Unit 39, Riverdale, MD 20737-1231; (301) 734-6479.

SUPPLEMENTARY INFORMATION:

Background

The regulations in 9 CFR part 93 prohibit or restrict the importation of certain animals, birds, and poultry into the United States to prevent the introduction of communicable diseases of livestock and poultry. Subpart D of part 93 (§§ 93.400 through 93.436, referred to below as the regulations) governs the importation of ruminants; within subpart D, §§ 93.424 through 94.429 specifically address the importation of various ruminants from Mexico into the United States.

In § 93.426, paragraph (a) states that all ruminants offered for entry into the United States from Mexico must be inspected at the port of entry and found to be free from communicable diseases and fever tick infestation and to not have been exposed to communicable diseases and fever tick infestation. Ruminants found to be affected with or to have been exposed to a communicable disease, or infested with fever ticks, are to be refused entry except as provided in § 93.427(b)(2).

Under § 93.427(b)(2), cattle that have been exposed to splenetic, southern, or tick fever, or that have been infested with or exposed to fever ticks, may be imported from Mexico for admission into the State of Texas, except that portion of the State quarantined because of fever ticks, either at one of the land border ports in Texas listed in § 93.403(c) of the regulations, or at the port of Santa Teresa, NM, provided that certain conditions are met. Those conditions are spelled out in paragraphs (b)(2)(i) through (b)(2)(v) of § 93.427.

In a proposed rule published in the Federal Register (70 FR 67933-67935, Docket No. 05-041-1) on November 9, 2005, we proposed to amend the regulations governing the importation of cattle from Mexico (referred to below as the regulations) by adding San Luis, AZ, as a port through which cattle that have been infested with fever ticks or exposed to fever ticks or tick-borne diseases may be imported into the United States. We also proposed to amend the regulations to remove the limitation that cattle that have been infested with ticks or tick-borne diseases may only be imported into Texas and that prohibits the movement of such cattle into areas of Texas that are quarantined because of fever ticks.

We solicited comments concerning our proposal for 60 days ending January 9, 2006. We received a total of 11 comments by that date. They were from representatives of the cattle industry, State agriculture and animal health departments, and private citizens. Three of the commenters supported the proposed rule. The remaining commenters were opposed to the proposed rule, citing concerns about importing Mexican cattle, maintaining and staffing the new port, or increasing the risk of spreading bovine piroplasmosis (another name for splenetic, southern, or tick fever) to domestic cattle within Texas or California.

After considering the concerns raised by several of the commenters, on April 13, 2006, we published a withdrawal of the proposed rule (71 FR 19134-19135; Docket No. 05-041-2) pending further analysis of the animal health risks associated with the proposed changes. As part of our evaluation, we prepared a risk assessment. Copies of the risk assessment may be obtained from the person listed under FOR FURTHER INFORMATION CONTACT or viewed on the Regulations.gov Web site (see ADDRESSES above for instructions for accessing Regulations.gov).

The risk assessment, titled “Evaluation of the Risk Associated with Proposed Changes to Rule 9 CFR 93.427(b)(2): Importation of Cattle from States in Mexico Where Rhipicephalus (Boophilus) spp. Ticks (Fever Ticks) Exist” (December 2006), evaluates the risks associated with the importation of cattle from Mexico that have been infested with fever ticks or exposed to fever ticks or tick-borne diseases into the tick quarantine zone in Texas and into other States. The risk assessment also examines the importation of cattle from Mexico that have been infested with fever ticks or exposed to fever ticks or tick-borne diseases through the port of San Luis, AZ. We discuss the findings of the risk assessment in further detail below.

Admission Only Into the State of Texas

The limitation that allows the imported cattle admission only into the State of Texas originated in statutory language (21 U.S.C. 104) that, prior to 1993, authorized the Secretary of Agriculture to permit “the admission into the State of Texas of cattle which have been infested with or exposed to ticks upon being freed therefrom.” However, in 1993, as part of the North American Free Trade Agreement (NAFTA) Implementation Act (Pub. L. 103-182), 21 U.S.C. 104 was amended to state more generally that the Secretary may permit the importation of cattle, sheep, or other ruminants, and swine from Canada and Mexico, effectively removing the restriction that prohibited cattle from moving into States other than Texas. The provisions of 21 U.S.C. 104 were subsequently repealed by the Animal Health Protection Act, which places no specific tick-related restrictions on cattle imported from Mexico. The Animal Health Protection Act provides that the Secretary may prohibit or restrict the importation of animals if necessary to prevent the introduction into or dissemination within the United States of any pest or disease of livestock.

Following the passage of the NAFTA Implementation Act, our permitting procedures were modified to allow cattle that had been infested with or exposed to fever ticks to be moved into States other than Texas under the conditions described in § 93.427(b)(2), but we did not make a corresponding change in the regulations to reflect the statutory amendment. We are, therefore, proposing to make that change in this document.

As stated in the risk assessment, in the past 5 years, Texas and 11 other States ¹ have received cattle from States in Mexico where fever ticks exist. If these same States continue to receive Mexican-origin cattle that have been infested with fever ticks or exposed to fever ticks or tick-borne diseases, then the presence of such cattle within States located outside of the permanent tick quarantine zone in Texas would not create a new animal health risk of exposure to tick-borne diseases. It is not expected that the number of cattle imported into States other than Texas or their intended destination would change as a result of this proposed rule.

¹ Alaska, California, Illinois, Iowa, Kansas, Kentucky, Mississippi, Missouri, Nebraska, Oklahoma, and Wyoming.

In addition, our risk assessment documents that average annual temperatures below 20 °C appear to inhibit the reproductive capability of female ticks. These temperatures roughly correspond to those States above latitude 36° N. Of the 12 States currently receiving Mexican cattle, only 5 are located below this line and present a higher risk of establishment of fever ticks. However, as noted above, because it is not expected that the number of cattle imported into States other than Texas or their intended destination would change as a result of this proposed rule, the proposal would not present an additional animal health risk. Thus, we do not believe it is necessary to maintain the restriction in § 93.427(b) that limits the admission of Mexican-origin cattle that have been infested with fever ticks or exposed to fever ticks or tick-borne diseases to the State of Texas.

Quarantined Areas in Texas

In order for tick-borne diseases to become established in U.S. cattle, vector ticks are required as intermediate carriers of those tick-borne diseases. In the absence of vector ticks, tick-borne diseases cannot be spread and, therefore, will gradually disappear from an infected herd. However, vector ticks are currently present in the permanent tick quarantine zone in Texas. As stated in the risk assessment, the reproductive capability of female ticks appears to be impaired by temperatures below 20 °C. As these temperatures roughly correspond to those States above latitude 36° N and nearly the entire State of Texas lies below this line, temperatures are favorable for the long-term establishment of fever ticks within the State. In addition, it appears precipitation levels within the tick quarantine zone are also favorable for tick establishment.

As stated in the risk assessment, seroprevalence data collected within Mexican States that export cattle to the United States show that the probability is high that some Mexican-origin cattle imported into the United States will be persistently affected with a tick-borne disease. In addition, although cattle from Mexico that have been exposed to tick-borne diseases or that have been infested with or exposed to fever ticks must meet the conditions listed in § 93.427(b)(2)(i) through (b)(2)(v)—including the requirement for an acaricide dip—before entering the United States, it is presumed that a small number of cattle will continue to harbor live fever ticks despite the required mitigations. This, in addition to the presence of free-ranging wild ruminants such as white-tailed deer, also increases the risk of introducing a tick-borne disease into the quarantined area in Texas. Therefore, we would continue to prohibit the movement of cattle from Mexico that have been infested with fever ticks or exposed to fever ticks or tick-borne diseases into Texas' tick quarantine zone.

Addition of San Luis, AZ, as an Approved Port

The port of San Luis, AZ, is currently listed in § 93.403(c) among the land border ports designated as having the necessary inspection facilities for the entry of ruminants from Mexico. However, as noted previously, the regulations in § 93.427(b) provide that any cattle from Mexico that have been infested with fever ticks or exposed to fever ticks or tick-borne diseases may be imported only through one of the border ports in Texas listed in § 93.403(c) or through the port of Santa Teresa, NM. We are proposing to amend § 93.427(b) to add San Luis, AZ, as a port through which such cattle may be imported.

A new commercial port of entry is to be constructed in San Luis, AZ, approximately 5 miles to the east of the current border crossing; the current crossing will be improved as well and will continue to be used for noncommercial crossings (passenger vehicles and pedestrians). The purpose of the project is to provide more direct access to major transportation routes between the United States and Mexico and to provide higher levels of service to users of the port of entry. As part of this project, the Mexican Government intends to construct facilities to make the movement of cattle from Mexico into the United States less logistically challenging for both exporters and importers. The number of cattle imported into the United States is not expected to increase as a result of this proposal, as the number of cattle that pass through the San Luis port are expected to come from cattle that would ordinarily pass through other ports of entry.

Based on the information provided to us by the Mexican Government, the new cattle-handling facilities will be equipped with facilities necessary for the proper chute inspection, dipping, and testing that are required under the regulations for cattle that have been infested with fever ticks or exposed to fever ticks or tick-borne diseases. We will coordinate, as necessary, with the Mexican Government during the construction of the new port facilities and will inspect the new cattle-handling facilities upon their completion to confirm that they are properly equipped to allow for the necessary chute inspection, dipping, and testing of cattle. Any final action on this proposal to add San Luis, AZ, to the list in § 93.427(b) of ports through which cattle that have been infested with fever ticks or exposed to fever ticks or tick-borne diseases may be imported from Mexico will be contingent upon our determination that the necessary facilities are in place.

The risk assessment concluded that the establishment of fever ticks is dependent on temperature and precipitation levels. While the range of temperatures present in the area around the San Luis port appear favorable for establishment of fever ticks, precipitation levels may not be as conducive. For example, Val Verde County, TX, which is within the tick quarantine zone in Texas, has an annual monthly precipitation level of between 0.57 inch and 2.0 inches, whereas San Luis, AZ, experiences between 0.03 inch to 0.7 inch of precipitation monthly. However, moisture from the Colorado River and private wells in the area may create micro-habitats, which could increase the potential for establishment. As stated previously, we do not expect that the addition of San Luis as a port through which cattle that have been infested with fever ticks or exposed to fever ticks or tick-borne diseases may be imported into the United States would change the intended destination of Mexican-origin cattle. Currently, Arizona is not one of the States that receive cattle from Mexico, so we do not expect that cattle entering the port of San Luis would remain in Arizona. Likewise, the number of cattle imported into the United States from Mexico is not expected to increase because the additional cattle that would pass through the San Luis port are expected to be cattle that would have otherwise entered the United States through the approved ports of entry in Texas or Santa Teresa, NM.

Therefore, based on our assessment of the risks, we are proposing to amend the regulations by adding San Luis, AZ, as a port through which cattle that have been infested with fever ticks or exposed to fever ticks or tick-borne diseases may be imported into the United States and by removing the limitation that cattle that have been infested with ticks or tick-borne diseases may only be imported into Texas. However, we would continue to prohibit the movement of cattle from Mexico into Texas's tick quarantine zone.

Executive Order 12866 and Regulatory Flexibility Act

This proposed rule has been reviewed under Executive Order 12866. The rule has been determined to be not significant for the purposes of Executive Order 12866 and, therefore, has not been reviewed by the Office of Management and Budget.

In accordance with the Regulatory Flexibility Act of 1980 (Pub. L. 96-354), this analysis considers the economic impact of this proposed rule on small businesses, small organizations, and small governmental jurisdictions. Section 603 of the Act requires agencies to prepare and make available for public comment an initial regulatory flexibility analysis (IRFA) describing the expected impact of proposed rules on small entities. Sections 603(b) and 603(c) of the Act specify the content of an IRFA. This analysis addresses these IRFA requirements.

For the purpose of this analysis and following the Small Business Administration (SBA) guidelines, the potentially affected entities are classified as Beef Cattle Ranching and Farming (NAICS 112111). By SBA standards, farms in this category are considered small if annual receipts are not more than $750,000. According to the 2002 Census of Agriculture, of the 664,431 beef cattle farms, 659,009 or 99 percent had annual receipts of less than $500,000 and are therefore considered small. Cattle imported into the United States from Mexico are generally purchased by stocker operations before they are shipped to feedlots. While there is no economic information available on the number, size, or distribution of the stocker operations, it is reasonable to assume they are small, given that 99 percent of beef cattle ranches and farms are considered small.

APHIS does not expect the proposed changes in the regulations would result in a net increase in the number of cattle imported from Mexico. Between the years of 2000 and 2005, an average of 68,223 Mexican-origin cattle entered the United States each year through the port of San Luis, AZ. As a result of the proposed change, we expect that an additional 30,000 to 50,000 head of cattle would enter the United States at San Luis, Arizona. These cattle would be cattle that have been infested with fever ticks or exposed to fever ticks or tick-borne diseases that would have otherwise entered through the ports in Texas or through the port of Santa Teresa, NM.

Any positive impacts of the proposed rule on small entities in the San Luis area, such as an increased volume of business for firms that transport cattle, would be matched by business declines for firms operating from the Texas and New Mexico ports. The net positive impact would be for cattle importers that find it advantageous to use the San Luis port. There may also be positive effects at the Texas and New Mexico ports, to the extent that the diversion of cattle to San Luis would reduce operational delays when the demand for imports is beyond the capacity of the facilities. However, APHIS has no information on whether such periods of insufficient capacity have occurred, and if so, how frequently.

The proposed changes would benefit certain cattle operations in the United States by making the importation of cattle from Mexico that have been infested with fever ticks or exposed to fever ticks or tick-borne diseases more readily accessible, and by reducing transport costs from the port of entry. The proposed port of entry for these cattle at San Luis, AZ, would benefit cattle operations to the west of the current ports of entry. Because the cattle would be moved over shorter distances, transport costs would be lower.

APHIS does not have information on the number of entities that would be importing cattle that have been infested with fever ticks or exposed to fever ticks or tick-borne diseases using the San Luis facilities, nor the cost savings that would be realized. We welcome information that the public may offer that would allow the Agency to better determine the number of enterprises that would be affected and the probable magnitude of their cost savings.

There are no significant alternatives to the rule that would accomplish the stated objectives. Because we do not expect there to be a significant economic impact on small entities, significant alternatives were not set forth. However, APHIS invites public comment on the potential impacts of the proposed rule.

Executive Order 12988

This proposed rule has been reviewed under Executive Order 12988, Civil Justice Reform. If this proposed rule is adopted: (1) All State and local laws and regulations that are in conflict with this rule will be preempted; (2) no retroactive effect will be given to this rule; and (3) administrative proceedings will not be required before parties may file suit in court challenging this rule.

Paperwork Reduction Act

This proposed rule contains no information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, we propose to amend 9 CFR part 93 as follows:

PART 93—IMPORTATION OF CERTAIN ANIMALS, BIRDS, FISH AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

2. In § 93.427, the introductory text of paragraph (b)(2) is revised to read as follows:

§ 93.427 Cattle from Mexico.

* * * * *

(b) * * *

(2) Cattle that have been exposed to splenetic, southern, or tick fever, or that have been infested with or exposed to fever ticks, may be imported from Mexico for admission into the United States, except into areas of Texas quarantined because of said disease or tick infestation as specified in § 72.5 of this chapter, either at one of the land border ports in Texas listed in § 93.403(c) or at the ports of Santa Teresa, NM, or San Luis, AZ, provided that the following conditions are strictly observed and complied with:

* * * * *

Done in Washington, DC, this 23rd day of January 2008.
Kevin Shea,
Acting Administrator, Animal and Plant Health Inspection Service.

[FR Doc. E8-1533 Filed 1-28-08; 8:45 am]

BILLING CODE 3410-34-P